DEPARTMENT OF TRANSPORTATION

Pipeline and Hazardous Materials Safety Administration

Hazardous Materials: Notice of Applications for Modification to Special Permits

AGENCY: Pipeline and Hazardous Materials Safety Administration (PHMSA), Department of Transportation.

ACTION: List of applications for modification of special permits.

SUMMARY: In accordance with the procedures governing the application for, and the processing of, special permits from the Department of Transportation's Hazardous Material Regulations, notice is hereby given that the Office of Hazardous Materials Safety has received the application described herein.

DATES: Comments must be received on or before April 22, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 2, 2025.
Donald P. Burger,
Chief, General Approvals and Permits Branch.

Special Permits Data
Application No. | Applicant | Regulation(s) affected | Nature of the special permits thereof
12783-M | Cryosurgery, Inc | 173.304(a)(1), 173.306(a) | To modify the outside packaging not to exceed 30 kg (66 pounds) gross weight. (modes 1, 2, 3, 4, 5).
13169-M | ConocoPhillips Alaska, Inc | 172.101(j)(1), 173.27(b)(3) | To modify the special permit to authorize the removal of technical names and a different main hub. (mode 4).
21139-M | KULR Technology Corporation | 172.600, 172.200, 172.300, 172.700(a), 172.400, 172.500, 173.185(b) | To modify the special permit to authorize transportation aboard cargo vessel and to no longer require a copy of the special permit be carried aboard each motor vehicle used to transport packages covered by the special permit. (modes 1, 2, 3).
21193-M | KULR Technology Corporation | 173.185(c), 173.185(f) | To modify the special permit to authorize transportation aboard cargo vessel and to no longer require a copy of the special permit be carried aboard each motor vehicle used to transport packages covered by the special permit. (modes 1, 2).
21467-M | General Motors LLC | 173.185(e)(1), 173.185(e)(3), 173.185(e)(4) | To modify the special permit to authorize a higher lithium-ion battery assembly maximum weight limit. (mode 4).
21470-M | Honeywell Intellectual Properties Inc | 173.302(a)(1), 180.205, 180.207, 180.209, 180.211, 180.212, 180.213, 180.215 | To modify the special permit to increase the maximum service pressure of the pressure vessels from 10,000 psig to 10,400 psig to factor in the unilateral pressure tolerance during fill. (mode 1).
21664-M | Champion Container Corporation | 173.158(f)(3) | To modify the special permit to authorize an additional packaging. (modes 1, 2, 3, 4).
21890-M | Blue Origin Florida, LLC | 173.301(f)(1), 173.302(a)(1), 173.302(b) | To modify the special permit to capture part number changes of the Hydrogen Ignition Supply System pressure vessels and to add additional pressure vessels. (mode 1, 3).

[FR Doc. 2025-05945 Filed 4-4-25; 8:45 am]

BILLING CODE 4910-60-P